DEPARTMENT OF ENERGY

Federal Energy Regulatory Commission

Combined Notice of Filings #1

Take notice that the Commission received the following electric corporate filings:

Docket Numbers: EC22-79-000.

Applicants: Lea Power Partners, LLC, Waterside Power, LLC, Badger Creek Limited, Bear Mountain Limited, Chalk Cliff Limited, Double C Generation Limited Partnership, High Sierra Limited, Kern Front Limited, Live Oak Limited, McKittrick Limited, WGP Redwood Holdings, LLC, Cretaceous Bidco Limited.

Description: Joint Application for Authorization Under Section 203 of the Federal Power Act of Lea Power Partners, LLC, et al.

Filed Date: 6/22/22.

Accession Number: 20220622-5078.

Comment Date: 5 p.m. ET 7/13/22.

Take notice that the Commission received the following exempt wholesale generator filings:

Docket Numbers: EG22-149-000.

Applicants: Big Cypress Solar, LLC.

Description: Notice of Self-Certification of Exempt Wholesale Generator Status of Big Cypress Solar, LLC.

Filed Date: 6/21/22.

Accession Number: 20220621-5064.

Comment Date: 5 p.m. ET 7/12/22.

Docket Numbers: EG22-150-000.

Applicants: Bakeoven Solar, LLC.

Description: Bakeoven Solar, LLC submits Notice of Self-Certification of Exempt Wholesale Generator Status.

Filed Date: 6/21/22.

Accession Number: 20220621-5189.

Comment Date: 5 p.m. ET 7/12/22.

Docket Numbers: EG22-151-000.

Applicants: Daybreak Solar, LLC.

Description: Daybreak Solar, LLC submits Notice of Self-Certification of Exempt Wholesale Generator Status.

Filed Date: 6/21/22.

Accession Number: 20220621-5191.

Comment Date: 5 p.m. ET 7/12/22.

Take notice that the Commission received the following electric rate filings:

Docket Numbers: ER21-47-000.

Applicants: Tucson Electric Power Company.

Description: Refund Report: Refund Report—Spot Market Sales Exceeding WECC Soft Price Cap to be effective N/A.

Filed Date: 6/22/22.

Accession Number: 20220622-5051.

Comment Date: 5 p.m. ET 7/13/22.

Docket Numbers: ER22-1734-000; ER22-1735-000; ER22-1736-000; ER22-1737-000; ER22-1739-000; ER22-1740-000; ER22-1742-000; ER22-1765-000; ER22-1750-000; ER22-1747-000; ER22-1749-000; ER22-1752-000; ER22-1753-000; ER22-1754-000; ER22-1755-000; ER22-1756-000; ER22-1757-000; ER22-1758-000; ER22-1759-000; ER22-1760-000; ER22-1761-000; ER22-1762-000; ER22-1763-000; ER22-1764-000; ER22-1776-000; ER22-1766-000; ER22-1767-000; ER22-1768-000; ER22-1769-000; ER22-1771-000; ER22-1772-000; ER22-1770-000; ER22-1773-000; ER22-1775-000; ER22-1774-000; ER22-1732-000.

Applicants: Wind Capital Holdings, LLC, Wildcat Wind, LLC, West Medway II, LLC, Tuana Springs Energy, LLC, Shooting Star Wind Project, LLC, R.E. Ginna Nuclear Power Plant, LLC, Nine Mile Point Nuclear Station, LLC, Michigan Wind 2, LLC, Michigan Wind 1, LLC, High Mesa Energy, LLC, Harvest Windfarm, LLC, Harvest II Windfarm, LLC, Handsome Lake Energy, LLC, Fourmile Wind Energy, LLC, Fair Wind Power Partners, LLC, Criterion Power Partners, LLC, CR Clearing, LLC, Cow Branch Wind Power, LLC, Constellation Wyman, LLC, Constellation West Medway, LLC, Constellation Power Source Generation, LLC, Constellation NewEnergy, Inc., Constellation New Boston, LLC, Constellation Mystic Power, LLC, Constellation Framingham, LLC, Constellation FitzPatrick, LLC, Constellation Energy Generation, LLC, Constellation Energy Commodities Group Maine, LLC, Clinton Battery Utility, LLC,CER Generation, LLC, Cassia Gulch Wind Park, LLC, Calvert Cliffs Nuclear Power Plant, LLC, Bluestem Wind Energy, LLC, Beebe Renewable Energy, LLC, Beebe 1B Renewable Energy, LLC, AV Solar Ranch 1, LLC.

Description: Supplement to April 29, 2022 AV Solar Ranch 1, LLC submits tariff filing per 35.13(a)(2)(iii: Notice of Change in Status, Revised MBR Tariffs, and Request for Waiver to be effective 5/2/2022.

Filed Date: 6/21/22.

Accession Number: 20220621-5209.

Comment Date: 5 p.m. ET 7/12/22.

Docket Numbers: ER22-2158-000.

Applicants: Public Service Company of New Mexico.

Description: § 205(d) Rate Filing: Compliance Filing Regarding April 21, 2022 Show Cause Order to be effective 6/22/2022.

Filed Date: 6/21/22.

Accession Number: 20220621-5187.

Comment Date: 5 p.m. ET 7/12/22.

Docket Numbers: ER22-2159-000.

Applicants: Midcontinent Independent System Operator, Inc., American Transmission Company LLC.

Description: § 205(d) Rate Filing: Midcontinent Independent System Operator, Inc. submits tariff filing per 35.13(a)(2)(iii: 2022-06-21_SA 3849 ATC-City of Negaunee D-TIA to be effective 8/22/2022.

Filed Date: 6/22/22.

Accession Number: 20220622-5006.

Comment Date: 5 p.m. ET 7/13/22.

Docket Numbers: ER22-2160-000.

Applicants: Midcontinent Independent System Operator, Inc., Ameren Illinois Company.

Description: § 205(d) Rate Filing: Midcontinent Independent System Operator, Inc. submits tariff filing per 35.13(a)(2)(iii: 2022-06-22_SA 3848 Ameren IL-Midwest Hydro to be effective 8/22/2022.

Filed Date: 6/22/22.

Accession Number: 20220622-5007.

Comment Date: 5 p.m. ET 7/13/22.

Docket Numbers: ER22-2161-000.

Applicants: Golden Spread Electric Cooperative, Inc.

Description: Compliance filing: 881 Compliance Filing to be effective 6/23/2022.

Filed Date: 6/22/22.

Accession Number: 20220622-5009.

Comment Date: 5 p.m. ET 7/13/22.

Docket Numbers: ER22-2162-000.

Applicants: Deseret Generation & Transmission Co-operative, Inc.

Description: Compliance filing: 881 Compliance Filing to be effective 6/23/2022.

Filed Date: 6/22/22.

Accession Number: 20220622-5014.

Comment Date: 5 p.m. ET 7/13/22.

Docket Numbers: ER22-2163-000.

Applicants: East Kentucky Power Cooperative, Inc., PJM Interconnection, L.L.C.

Description: § 205(d) Rate Filing: East Kentucky Power Cooperative, Inc. submits tariff filing per 35.13(a)(2)(iii: EKPC submits revised depreciation rates to OATT, Att. H-24A, App. D to be effective 6/1/2022.

Filed Date: 6/22/22.

Accession Number: 20220622-5026.

Comment Date: 5 p.m. ET 7/13/22.

Docket Numbers: ER22-2164-000.

Applicants: Niagara Mohawk Power Corporation.

Description: § 205(d) Rate Filing: 2022-06-22 Concurrence to Cost Sharing and Recovery Agreement to be effective 8/22/2022.

Filed Date: 6/22/22.

Accession Number: 20220622-5049.

Comment Date: 5 p.m. ET 7/13/22.

Docket Numbers: ER22-2165-000.

Applicants: Southwestern Public Service Company.

Description: Tariff Amendment: Tri-County Cancellation to be effective 6/23/2022.

Filed Date: 6/22/22.

Accession Number: 20220622-5058.

Comment Date: 5 p.m. ET 7/13/22.

Docket Numbers: ER22-2166-000.

Applicants: Arizona Public Service Company.

Description: § 205(d) Rate Filing: Rate Schedule No. 307 to be effective 8/22/2022.

Filed Date: 6/22/22.

Accession Number: 20220622-5063.

Comment Date: 5 p.m. ET 7/13/22.

Docket Numbers: ER22-2167-000.

Applicants: Southwest Power Pool, Inc.

Description: § 205(d) Rate Filing: 3978 Tip Top Solar, SPS & PSCo OK Shared Network Upgrade FCA to be effective 8/22/2022.

Filed Date: 6/22/22.

Accession Number: 20220622-5064.

Comment Date: 5 p.m. ET 7/13/22.

Docket Numbers: ER22-2168-000.

Applicants: Public Service Company of Colorado.

Description: § 205(d) Rate Filing: 2022-06-21-PSCo-HLYCRS-O&M Agrmt 430-0.3.0 to be effective 6/23/2022.

Filed Date: 6/22/22.

Accession Number: 20220622-5066.

Comment Date: 5 p.m. ET 7/13/22.

Docket Numbers: ER22-2169-000.

Applicants: Florida Power & Light Company.

Description: § 205(d) Rate Filing: FPL Revisions to Transmission Service Agreement No. 274 to be effective 4/1/2022.

Filed Date: 6/22/22.

Accession Number: 20220622-5068.

Comment Date: 5 p.m. ET 7/13/22.

Docket Numbers: ER22-2170-000.

Applicants: Duke Energy Florida, LLC.

Description: Tariff Amendment: DEF-Mt. Dora Termination of Reimbursement Agreement RS No. 267 to be effective 8/22/2022.

Filed Date: 6/22/22.

Accession Number: 20220622-5069.

Comment Date: 5 p.m. ET 7/13/22.

Docket Numbers: ER22-2171-000.

Applicants: Midcontinent Independent System Operator, Inc.

Description: § 205(d) Rate Filing: 2022-06-22_SA 3333 ITC-DTE Electric 2nd Rev GIA (J793) to be effective 6/9/2022.

Filed Date: 6/22/22.

Accession Number: 20220622-5097.

Comment Date: 5 p.m. ET 7/13/22.

Docket Numbers: ER22-2172-000.

Applicants: PJM Interconnection, L.L.C.

Description: § 205(d) Rate Filing: Original WMPA, SA No. 6510; Queue No. AE2-040 to be effective 5/23/2022.

Filed Date: 6/22/22.

Accession Number: 20220622-5099.

Comment Date: 5 p.m. ET 7/13/22.

Docket Numbers: ER22-2173-000.

Applicants: Bakeoven Solar, LLC.

Description: Baseline eTariff Filing: Application for Market-Based Rate Authorization, Request for Related Waivers to be effective 8/11/2022.

Filed Date: 6/22/22.

Accession Number: 20220622-5122.

Comment Date: 5 p.m. ET 7/13/22.

Docket Numbers: ER22-2174-000.

Applicants: Daybreak Solar, LLC.

Description: Baseline eTariff Filing: Application for Market-Based Rate Authorization, Request for Related Waivers to be effective 8/11/2022.

Filed Date: 6/22/22.

Accession Number: 20220622-5123.

Comment Date: 5 p.m. ET 7/13/22.

Docket Numbers: ER22-2175-000.

Applicants: New England Power Company.

Description: § 205(d) Rate Filing: 2022-06-22 Filing of Civil Work and Construction Agreement between NEP and NSTAR to be effective 4/19/2022.

Filed Date: 6/22/22.

Accession Number: 20220622-5126.

Comment Date: 5 p.m. ET 7/13/22.

Take notice that the Commission received the following electric securities filings:

Docket Numbers: ES22-50-000.

Applicants: Deerfield Wind Energy 2, LLC.

Description: Application Under Section 204 of the Federal Power Act for Authorization to Issue Securities of Deerfield Wind Energy 2, LLC.

Filed Date: 6/21/22.

Accession Number: 20220621-5118.

Comment Date: 5 p.m. ET 7/12/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date.

Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2022.
Kimberly D. Bose,
Secretary.

[FR Doc. 2022-13820 Filed 6-28-22; 8:45 am]

BILLING CODE 6717-01-P